ENVIRONMENTAL PROTECTION AGENCY

40 CFR Part 52

[EPA-R09-OAR-2006-0225; FRL-8170-9]

Revisions to the California State Implementation Plan, South Coast Air Quality Management District

AGENCY: Environmental Protection Agency (EPA).

ACTION: Proposed rule.

SUMMARY: EPA is proposing to approve revisions to the South Coast Air Quality Management District's (SCAQMD) portion of the California State Implementation Plan (SIP). These revisions concern oxides of nitrogen (NOX) and oxides of sulfur (SOx) emissions from facilities emitting 4 tons or more per year of NOX or SOx in the year 1990 or subsequent year under the SCAQMD's Regional Clean Air Incentives Market (RECLAIM) program. We are proposing to approve local rules to regulate these emission sources under the Clean Air Act as amended in 1990 (CAA or the Act). We are taking comments on this proposal and plan to follow with a final action.

DATES: Any comments must arrive by June 15, 2006.

ADDRESSES: Submit comments, identified by docket number EPA-R09-OAR-2006-0225, by one of the following methods:

1. Federal eRulemaking Portal: ­ http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through ­ http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Lily Wong, EPA Region IX, (415) 947-4114, wong.lily@epa.gov.

SUPPLEMENTARY INFORMATION: Throughout this document, “we,” “us” and “our” refer to EPA.

Table of Contents

I. The State's Submittal

A. What rules did the State submit?

B. Are there other versions of these rules?

C. What is the purpose of the submitted rule revisions?

II. EPA's Evaluation and Action.

A. How is EPA evaluating the rules?

B. Do the rules meet the evaluation criteria?

C. Public Comment and Final Action

III. Statutory and Executive Order Reviews

I. The State's Submittal

A. What rules did the State submit?

Table 1 lists the rules addressed by this proposal with the dates that they were adopted by the SCAQMD and submitted by the California Air Resources Board (CARB).

Table 1.—Submitted Rules
Local agency | Rule # | Rule title | Adopted | Submitted
SCAQMD | 2000 | General | 05/06/05 | 10/20/05
SCAQMD | 2001 | Applicability | 05/06/05 | 10/20/05
SCAQMD | 2002 | Allocations for Oxides of Nitrogen (NOX) and Oxides of Sulfur (SOx) | 01/07/05 | 12/21/05
SCAQMD | 2005 | New Source Review for RECLAIM | 05/06/05 | 10/20/05
SCAQMD | 2007 | Trading Requirements | 05/06/05 | 10/20/05
SCAQMD | 2010 | Administrative Remedies and Sanctions | 01/07/05 | 07/15/05
SCAQMD | 2011 | Requirements for Monitoring, Reporting, and Recordkeeping for Oxides of Sulfur (SOx) Emissions | 01/07/05 | 07/15/05
SCAQMD | 2011 Protocol Appendix A | Appendix A: Protocol for Monitoring, Reporting, and Recordkeeping for Oxides of Sulfur (SOx) Emissions | 05/06/05 | 10/20/05
SCAQMD | 2012 | Requirements for Monitoring, Reporting, and Recordkeeping for Oxides of Nitrogen (NOX) Emissions | 01/07/05 | 07/15/05
SCAQMD | 2012 Protocol Appendix A | Appendix A—Protocol for Monitoring, Reporting, and Recordkeeping for Oxides of Nitrogen (NOX) Emissions | 05/06/05 | 10/20/05

Prior to the submittal of the rules in Table 1, SCAQMD also adopted and submitted other revisions of these rules. While we can act on only the most recently submitted version, we have reviewed materials provided with previous submittals. EPA's technical support document (TSD) has more information about these interim superseded rules.

On August 18, 2005, November 22, 2005, and March 20, 2006, these rule submittals were found to meet the completeness criteria in 40 CFR part 51, appendix V, which must be met before formal EPA review.

B. Are there other versions of these rules?

Table 2 lists the previous versions of these rules approved into the SIP.

Table 2.—Current SIP Approved Version of Rules
Rule # | Rule title | Adopted | Submitted | Approved FR citation
2000 | General | 05/11/01 | 05/31/01 | 09/04/03, 68 FR 52512.
2001 | Applicability | 05/11/01 | 05/31/01 | 09/04/03, 68 FR 52512.
2002 | Allocations for Oxides of Nitrogen (NOX) and Oxides of Sulfur (SOX) | 05/11/01 | 05/31/01 | 09/04/03, 68 FR 52512.
2005 | New Source Review for RECLAIM | 04/20/01 | 10/30/01 | 09/04/03, 68 FR 52512.
2007 | Trading Requirements | 12/05/03 | 02/20/04 | 07/26/04, 69 FR 44461.
2010 | Administrative Remedies and Sanctions | 05/11/01 | 05/31/01 | 09/04/03, 68 FR 52512.
2011 | Requirements for Monitoring, Reporting, and Recordkeeping for Oxides of Sulfur (SOX) Emissions | 12/05/03 | 02/20/04 | 07/26/04, 69 FR 44461.
2011 Protocol Appendix A | Protocol for Monitoring, Reporting, and Recordkeeping for Oxides of Sulfur (SOX) Emissions | 03/16/01 | 05/31/01 | 09/04/03, 68 FR 52512.
2012 | Requirements for Monitoring, Reporting, and Recordkeeping for Oxides of Nitrogen (NOX) Emissions | 12/05/03 | 02/20/04 | 07/26/04, 69 FR 44461.
2012 Protocol Appendix A | Protocol for Monitoring, Reporting, and Recordkeeping for Oxides of Nitrogen (NOX) Emissions | 03/16/01 | 05/31/01 | 09/04/03, 68 FR 52512.

C. What is the purpose of the submitted rule revisions?

NOX helps produce ground-level ozone, smog and particulate matter, which harm human health and the environment. Section 110(a) of the CAA requires states to submit regulations that control NOX emissions. The RECLAIM program was initially adopted by SCAQMD in October 1993. The program established for many of the largest NOX and SOX facilities in the South Coast Air Basin regional NOX and SOX emissions caps which decline over time. The program was designed to provide incentives for sources to reduce emissions and advance pollution control technologies by giving sources added flexibility in meeting emission reduction requirements. A RECLAIM source's emissions may not exceed its holding of RECLAIM Trading Credits (RTCs) in any compliance year. A RECLAIM source may comply with this requirement by installing control equipment, modifying their activities, or purchasing RTCs from other facilities.

The primary purposes of the 2005 amendments to the RECLAIM rules were to:

(1) Lower the regional NOX emissions cap. Beginning with the 2007 compliance year, the regional NOX emissions cap would be lowered by 4 tons per day from the 2003 emissions levels to achieve additional NOX emission reductions for attainment. This program modification would also address California Health and Safety Code requirements on Best Available Retrofit Control Technology (BARCT).

(2) Remove the remaining trading restrictions placed on the power producers.

(3) Modify the monitoring, recordkeeping, and reporting requirements and protocols, including: adding a new NOX emission factor for micro-turbines, requiring large sources and process units equipped with stack flow monitors to measure exhaust flow rate, clarifying the required operating parameters for large sources and process units, clarifying the corresponding emission rates that are to be measured and reported, establishing missing data provisions on an hourly basis versus the previous daily requirement, allowing an alternative test to demonstrate compliance with RECLAIM NOX concentration limits, allowing a delay in the due date for Relative Accuracy Test Audits (RATA) for equipment that is operated intermittently, adding alternative methods of compliance testing for natural gas combustion sources with high oxygen content in the exhaust stream, allowing the reporting of emissions through the SCAQMD's Internet Web site, specifying that emission reports are due every quarter from sources that are not listed on the Facility Permit (such as contractor equipment, various location equipment, and equipment covered under applications), correcting typographical errors, and adding rule language clarifications.

(4) Modify the NSR requirements for RECLAIM sources to allow sources to sell unused RTCs at the end of a quarter instead of the end of the compliance year, provided the source accepts an enforceable permit condition which establishes a quarterly emissions limitation.

(5) Implement other administrative and clarifying changes. While ship emissions are not counted toward the applicability thresholds to determine if the source is subject to RECLAIM, the rule amendments clarify that ship emissions at a new or relocated RECLAIM facility subject to New Source Review is to be counted as part of the total emissions which must be offset. Because of recent changes in the state that requires the permitting and regulation of agricultural sources, the rule was amended to clarify that agricultural sources are exempt from the RECLAIM program.

EPA's TSD has more information about these rules.

II. EPA's Evaluation and Action

A. How is EPA evaluating the rules?

Generally, SIP rules must be enforceable (see section 110(a) of the Act), must require Reasonably Available Control Technology (RACT) for major sources in nonattainment areas (see section 182(a)(2)(A) and 182(f)), and must not relax existing requirements (see sections 110(l) and 193). The SCAQMD regulates a 1-hour ozone nonattainment area (see 40 CFR 81), so Regulation XX (Rules 2000 to 2020) must fulfill RACT.

Guidance and policy documents that we used to help evaluate enforceability and RACT requirements consistently include the following:

1. “State Implementation Plans; Nitrogen Oxides Supplement to the General Preamble; Clean Air Act Amendments of 1990 Implementation of Title I; Proposed Rule,” (the NOX Supplement), 57 FR 55620, November 25, 1992.

2. “Issues Relating to VOC Regulation Cutpoints, Deficiencies, and Deviations,” EPA, May 25, 1988 (the Bluebook).

3. “Guidance Document for Correcting Common VOC & Other Rule Deficiencies,” EPA Region 9, August 21, 2001 (the Little Bluebook).

4. “Improving Air Quality with Economic Incentive Programs,” EPA-452/R01-001, (the EIP guidance) January 2001.

B. Do the rules meet the evaluation criteria?

We believe these rules are consistent with the relevant policy and guidance regarding enforceability, RACT, and SIP relaxations. While some of rule amendments could arguably be viewed as a rule relaxation (e.g. allowing sources to sell unused RTCs at the end of a quarter instead of at the end of the year), other rule amendments are strengthening (e.g. requiring such sources to be subject to a quarterly emissions limit in their permit, and clarifying that ship emissions, at a new or relocated RECLAIM facility subject to New Source Review, are part of total emissions which must be offset). Also, the amendments result in significant additional emission reductions through the lowering of the emissions cap in the year 2007. Consequently, EPA believes that the amendments on balance are strengthening. The TSD has more information on our evaluation.

C. Public Comment and Final Action

Because EPA believes the submitted rules fulfill all relevant requirements, we are proposing to fully approve them as described in section 110(k)(3) of the Act. We will accept comments from the public on this proposal for the next 30 days. Unless we receive convincing new information during the comment period, we intend to publish a final approval action that will incorporate these rules into the federally enforceable SIP.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 (“Protection of Children from Environmental Health Risks and Safety Risks” ((62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Intergovernmental relations, Nitrogen dioxide, Ozone, Reporting and recordkeeping requirements.

Authority: 42 U.S.C. 7401 et seq.

Dated: April 27, 2006.
Wayne Nastri,
Regional Administrator, Region IX.

[FR Doc. E6-7411 Filed 5-15-06; 8:45 am]

BILLING CODE 6560-50-P